NATIONAL FOUNDATION ON THE ARTS AND THE HUMANITIES

Institute of Museum and Library Services

Submission for OMB Review, Comment Request, Proposed Collection: 2022-2024 IMLS Grants to States Program State Program Reporting (SPR) System Forms

AGENCY: Institute of Museum and Library Services, National Foundation for the Arts and the Humanities.

ACTION: Submission for OMB review, comment request.

SUMMARY: The Institute of Museum and Library Services announces the following information collection has been submitted to the Office of Management and Budget (OMB) for review and approval in accordance with the Paperwork Reduction Act. This program helps to ensure that requested data can be provided in the desired format, reporting burden (time and financial resources) is minimized, collection instruments are clearly understood, and the impact of collection requirements on respondents can be properly assessed. This Notice proposes the clearance of the IMLS Grants to States Program State Program Reporting (SPR) System electronic data collection, which supports both the financial and performance reporting for all grantees. A copy of the proposed information collection request can be obtained by contacting the individual listed below in the ADDRESSES section of this notice.

DATES: Written comments must be submitted to the office listed in the ADDRESSES section below on or before August 4, 2021.

OMB is particular interested in comments that help the agency to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology (e.g., permitting electronic submission of responses).

ADDRESSES: Written comments and recommendations for proposed information collection requests should be sent within 30 days of publication of this Notice to www.reginfo.gov/public/do/PRAMain. Find this particular information collection request by selecting “Institute of Museum and Library Services” under “Currently Under Review;” then check “Only Show ICR for Public Comment” checkbox. Once you have found this information collection request, select “Comment,” and enter or upload your comment and information. Alternatively, please mail your written comments to Office of Information and Regulatory Affairs, Attn.: OMB Desk Officer for Education, Office of Management and Budget, Room 10235, Washington, DC 20503, or call (202) 395-7316.

FOR FURTHER INFORMATION CONTACT: Teresa DeVoe, Associate Deputy Director—State Programs, Office of Library Services, State Programs, Institute of Museum and Library Services, 955 L'Enfant Plaza North SW, Suite 4000, Washington, DC 20024-2135. Ms. DeVoe can be reached by telephone at 202-653-4778, or by email at tdevoe@imls.gov. Office hours are from 8:30 a.m. to 5 p.m., E.T., Monday through Friday, except Federal holidays. Persons who are deaf or hard of hearing (TTY users) can contact IMLS via Federal Relay at 800-877-8339.

SUPPLEMENTARY INFORMATION: The Institute of Museum and Library Services (IMLS) is the primary source of federal support for the nation's libraries and museums. We advance, support, and empower America's museums, libraries, and related organizations through grant making, research, and policy development. To learn more, visit www.imls.gov.

Current Actions: This Notice proposes renewal of the clearance of the forms and instructions for the IMLS Grants to States Program State Program Reporting (SPR) System electronic data collection for the next three years. These include State Program Reporting Requirements; State Program Reporting Requirements Appendices; SPR Reporting System User Documentation; State Financial Status Report; Quick Reference Sheet for State Program Report Outcomes Qs; State Legal Officer's Certification of Authorized Certifying Official; Internet Safety Certification for Applicant Public Libraries, Public Elementary and Secondary School Libraries, and Consortia with Public and/or Public School Libraries; Internet Safety Certification for a State Library Administrative Agency that Carries Out Services as a Public Library, and Assurances Provided in Support of Five-Year Plan.

The 60-Day Notice was published in the Federal Register on April 21, 2021 (86 FR 20743). One/No comment was received.

Agency: Institute of Museum and Library Services.

Title: 2022-2024 IMLS Grants to States Program State Program Reporting System Forms.

OMB Number: 3137-0071.

Frequency: 1 time per year.

Affected Public: State Library Administrative Agencies (SLAAs).

Number of Respondents: 59.

Estimated Average Burden per Response in Hours: 47.83.

Estimated Total Annual Burden in Hours: 2,821.97.

Total Annualized Capital/Startup Costs: n/a.

Total Annual Costs: $86,239.40.

Total Annual Federal Costs: $39,863.06.

Dated: June 30, 2021.
Kim Miller,
Senior Grants Management Specialist, Institute of Museum and Library Services.

[FR Doc. 2021-14366 Filed 7-6-21; 8:45 am]

BILLING CODE 7036-01-P